DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection will provide the Secretary of Energy with the appropriate information needed to make an informed determination regarding a request to directly or indirectly engage or participate in the development or production of special nuclear material outside the United States. Section 57b.(2) of the Atomic Energy Act (AEA) of 1954, as amended by section 302 of the Nuclear Nonproliferation Act of 1978 (NNPA) enacted by Public Law 95-242, empowers the Secretary of Energy (Secretary) to authorize persons to directly or indirectly engage or participate in the development or production of special nuclear material outside the United States. In order to implement Section 57b.(2), DOE promulgated a rule found at 10 CFR part 810. This rule describes what activities are within the scope of control, what activities are generally authorized by the Secretary, and what activities require a specific authorization. The regulation requires the submission of specific information essential for the Secretary to make a non-inimicality finding about the proposed transfer of U.S. nuclear technology, assistance or expertise.

DATES: Comments regarding this collection must be received on or before July 3, 2014. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503 and LaReina Parker, Office of Nonproliferation and International Security (NA-24), National Nuclear Security Administration, Department of Energy, 1000 Independence Avenue SW., Washington, DC 20585.

FOR FURTHER INFORMATION CONTACT: LaReina Parker, Office of Nonproliferation and International Security, NA-24, National Nuclear Security Administration, Department of Energy, 1000 Independence Avenue SW., Washington, DC 20585, telephone, (202) 586-6493; Part810.SNOPR@hq.doe.gov. The collection instrument can be viewed at the following Web site: http://www.regulations.gov/index.jsp#!documentDetail;D=DOE_FRDOC_0001-2467.

SUPPLEMENTARY INFORMATION: This information collection request contains: (1) OMB No. A1901-0263; (2) Information Collection Request Title: Assistance to Foreign Atomic Energy Activities; (3) Type of Request: Reinstatement; (4) Purpose: Pursuant to Section 57b.(2), DOE promulgated a rule found at 10 CFR part 810 that implements the broad provisions therein. Specifically, this rule describes what activities are within the scope of control, what activities are generally authorized, what activities require a specific authorization, provides information requirements for reporting generally and specifically authorized activities, and information requirements for applications for specific authorization. The information is essential for the Secretary to make a non-inimicality finding about the proposed transfer of U.S. nuclear technology, assistance or expertise, and applies to anyone that is a “person” under the regulation that engages in the export or provision of assistance to a foreign civilian nuclear program; (5) Annual Estimated Number of Respondents: 145; (6) Annual Estimated Number of Total Responses: 322; (7) Annual Estimated Number of Burden Hours: 966; (8) Annual Estimated Reporting and Recordkeeping Cost Burden: The total annual cost burden is estimated at $999.50.

Statutory Authority: Section 57 b.(2) of the Atomic Energy Act (AEA) of 1954, as amended by section 302 of the Nuclear Nonproliferation Act of 1978 (NNPA) enacted by Public Law 95-242.

Issued in Washington, DC, on May 23, 2014.
Richard Goorevich,
Senior Policy Advisor, Office of Nonproliferation and International Security.

[FR Doc. 2014-12800 Filed 6-2-14; 8:45 am]

BILLING CODE 6450-01-P